DEPARTMENT OF ENERGY

Office of Fossil Energy; National Coal Council

AGENCY: Department of Energy.

ACTION: Notice of open meeting.

SUMMARY: This notice announces a meeting of the National Coal Council. Federal Advisory Committee Act (Pub. L. 92-463, 86 Stat. 770) requires notice of these meetings to be announced in the Federal Register.

DATES: May 27, 2004, 9 a.m. to 12 p.m.

ADDRESSES: Sheraton Station Square Hotel, 300 West Station Square Drive, Pittsburgh, PA.

FOR FURTHER INFORMATION CONTACT: Robert Kane, Phone: 202/586-4753, or Estelle W. Hebron, Phone: 202/586-6837, U.S. Department of Energy, Office of Fossil Energy, Washington, DC 20585.

SUPPLEMENTARY INFORMATION: Purpose of the Committee: The purpose of the National Coal Council is to provide advice, information, and recommendations to the Secretary of Energy on matters relating to coal and coal industry issues.

Tentative Agenda:

Call to Order by Mr. Wes Taylor, Chairman

Council Business

Remarks by Honorable Spencer Abraham, Secretary of Energy

Presentation by Gary Kaster, American Electric Power on Carbon Sequestration

Presentation by DOE/NETL Representative on FutureGen

Presentation by Member of Congress on National Energy Legislation

Presentation by Member of PA Legislature on PA Energy Outlook

Presentation by Carol Raulston, Sr. Vice President, Communications, National Mining Association on Jobs in the Mining Industry

Discussion of Other Business Properly Brought Before the Committee

Public Comment—10 minute rule

Adjournment

Public Participation: The meeting is open to the public. The Chairperson of the Committee will conduct the meeting to facilitate the orderly conduct of business. If you would like to file a written statement with the Committee, you may do so either before or after the meeting. If you would like to make oral statements regarding any of the items on the agenda, you should contact Robert Kane or Estelle W. Hebron at the address or telephone numbers listed above. You must make your request for an oral statement at least five business days prior to the meeting, and reasonable provisions will be made to include the presentation on the agenda. Public comment will follow the 10 minute rule.

Transcript: The transcript will be available for public review and copying at the Freedom of Information Public Reading Room, 1E-190, Forrestal Building, 1000 Independence Avenue, SW., Washington, DC, between 9 a.m. and 4 p.m., Monday through Friday, except Federal holidays.

Issued in Washington, DC, on March 31, 2004.
Rachel M. Samuel,
Deputy Committee Management Officer.

[FR Doc. 04-7785 Filed 4-5-04; 8:45 am]

BILLING CODE 6450-01-P